DEPARTMENT OF TRANSPORTATION

Federal Aviation Administration

14 CFR Part 71

[Airspace Docket No. 00-AAL-08]

RIN 2120-AA66

Proposed Establishment of Colored Federal Airways; AK

AGENCY: Federal Aviation Administration (FAA), DOT.

ACTION: Proposed rule; withdrawal.

SUMMARY: This action withdraws the rulemaking proposal published in the Federal Register on February 13, 2001. In that action, the FAA proposed to establish two Federal airways in Alaska. The FAA has determined that withdrawal of the proposed rule is warranted since the proposed routes failed flight inspection due to weak navigational signals.

DATES: June 12, 2002.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION: On February 13, 2001, a proposed rule was published in the Federal Register that would have amended 14 CFR part 71 to establish two Federal airways in Alaska (66 FR 9990). Interested parties were invited to participate in the rulemaking process by submitting written data, views, or arguments regarding the proposal. No comments were received on the proposal.

Due to the weak navigational signal affecting these proposed routes, they could not pass flight inspection. The FAA is therefore withdrawing this proposed rule.

List of Subjects in 14 CFR part 71

Airspace, Incorporation by reference, Navigation (air).

The Withdrawal

In consideration of the foregoing, the Notice of Proposed Rulemaking, Airspace Docket No. 00-AAL-08, as published in the Federal Register on February 13, 2001 (66 FR 9990), is hereby withdrawn.

Authority: 49 U.S.C. 106(g), 40103, 40113, 40120; E.O. 10854; 24 FR 9565, 3 CFR, 1959-1963 Comp., p. 389.

Issued in Washington, DC, on June 4, 2002.
Reginald C. Matthews,
Manager, Airspace and Rules Division.

[FR Doc. 02-14687 Filed 6-11-02; 8:45 am]

BILLING CODE 4910-13-P